DEPARTMENT OF THE INTERIOR

Office of Surface Mining Reclamation and Enforcement

30 CFR Part 924

[MS-016-FOR]

State Abandoned Mine Land Reclamation Plan

AGENCY: Office of Surface Mining Reclamation and Enforcement, Interior.

ACTION: Final rule; approval of amendment.

SUMMARY: We, the Office of Surface Mining Reclamation and Enforcement (OSM), are approving a partial abandoned mine land reclamation (AMLR) plan under the Surface Mining Control and Reclamation Act of 1977 (SMCRA or the Act). Mississippi proposed revisions to and addition of statutes to the Mississippi Surface Coal Mining and Reclamation Law in order to authorize and establish an AMLR plan. The purpose of this amendment is to demonstrate both the intent and capability to assume responsibility for administering and conducting an AMLR plan.

DATES: Effective Date: August 25, 2006.

FOR FURTHER INFORMATION CONTACT: Arthur W. Abbs, Director, Birmingham Field Office. Telephone: (205) 290-7282. E-mail address: aabbs@osmre.gov.

SUPPLEMENTARY INFORMATION:

I. Background on the Abandoned Mine Land Reclamation Program

II. Submission of the AMLR Plan Statutes

III. OSM's Findings

IV. Summary and Disposition of Comments

V. OSM's Decision

VI. Procedural Determinations

I. Background on the Abandoned Mine Land Reclamation Program

The AMLR Program was established by Title IV of the Act (30 U.S.C. 1201 et seq.) in response to concerns over extensive environmental damage caused by past coal mining activities. The program is funded by a reclamation fee collected on each ton of coal that is produced. The money collected is used to finance the reclamation of abandoned coal mines and for other authorized activities. Section 405 of the Act allows States and Indian Tribes to assume exclusive responsibility for reclamation activity within the State or on Indian lands if they develop and submit, to the Secretary of the Interior for approval, a program (often referred to as a plan) for the reclamation of abandoned coal mines.

II. Submission of the AMLR Plan Statutes

By letter dated April 5, 2006 (Administrative Record No. MS-0402), Mississippi sent us its AMLR plan statutes under SMCRA (30 U.S.C. 1201 et seq.). The purpose of this submission was to demonstrate both the intent and capability to assume responsibility for administering and conducting the provisions of SMCRA and OSM's AMLR program (30 CFR Chapter 7, Subchapter R). Mississippi revised and added statutes to the Mississippi Surface Coal Mining and Reclamation Law at Sections 53-9-3, 53-9-7, 53-9-89, 53-9-89(1)(c), 53-9-89(1)(c)(i) through (v), 53-9-101, 53-9-103, 53-9-105, 53-9-107, 53-9-109, 53-9-111, 53-9-113, 53-9-115, 53-9-117, 53-9-119, 53-9-121, 53-9-123.

We announced receipt of the proposed plan statutes in the June 8, 2006, Federal Register (72 FR 33273). In the same document, we opened the public comment period and provided an opportunity for a public hearing or meeting on the adequacy of the statutes. We did not hold a public hearing or meeting because no one requested one. The public comment period ended on July 10, 2006. We received comments from three Federal agencies.

III. OSM's Findings

Following are the findings we made concerning the AMLR plan statutes under SMCRA and the Federal regulations at 30 CFR 884.14 and 884.15. We are approving the statutes as described below.

In accordance with section 405 of SMCRA, we find that Mississippi has submitted AMLR plan statutes for the reclamation of abandoned mines and has the authority to implement the provisions of Title IV of SMCRA.

1. The public has been given adequate notice and opportunity to comment and the record does not reflect major unresolved controversies.

2. We have solicited and considered the views of the Federal agencies having an interest in the Mississippi AMLR plan statutes. Agencies that responded include: the U.S. Bureau of Land Management (BLM), U.S. Natural Resources Conservation Service (NRCS), and the U.S. Environmental Protection Agency (EPA).

3. The Mississippi Department of Environmental Quality, Office of Geology, has the legal authority and administrative structure to carry out the State AMLR plan statutes.

4. The Mississippi AMLR plan statutes meet all requirements of OSM's Title IV program provisions.

5. We approved the Mississippi regulatory program effective September 4, 1980.

6. The Mississippi AMLR plan statutes are in compliance with all applicable State and Federal laws and regulations.

Therefore, we approve Mississippi's AMLR plan statutes. Although the AMLR plan statutes conform to statutory requirements, Mississippi must still submit the information required by 30 CFR 884.13(a) through (f) before we can make the findings necessary for full approval of its AMLR plan. The State will be able to receive and spend Federal AMLR grant funds only after we approve its complete State AMLR plan.

IV. Summary and Disposition of Comments

Public Comments

We asked for public comments on the amendment, but did not receive any.

Federal Agency Comments

On May 1, 2006, under 30 CFR 884.14(a)(2) and 884.15(a), we requested comments on the amendment from various Federal agencies with an actual or potential interest in the Mississippi AMLR plan (Administrative Record No. MS-0403). We received comments from the BLM, NRCS, and EPA. The BLM did not find any inconsistencies between the proposed changes and Federal Laws that govern mining (Administrative Record No. MS-0404). The NRCS stated that it and the Mississippi Department of Environmental Quality share common interest in stabilization and restoration following man's use of the land (Administrative Record No. MS-0406). Both agencies agreed with the proposed AMLR plan statutes. EPA responded on June 21, 2006, that it had no comments (Administrative Record No. MS-0411).

V. OSM's Decision

Based on the above findings, we approve the Mississippi AMLR statutes sent to us on April 5, 2006.

To implement this decision, we are amending the Federal regulations at 30 CFR part 924, which codify decisions concerning the Mississippi plan. We find that good cause exists under 5 U.S.C. 553(d)(3) to make this final rule effective immediately. Section 405 of SMCRA requires that the State's plan demonstrate that the State has the capability of carrying out the provisions of the Act and meeting its purposes. Making this rule effective immediately will expedite that process. SMCRA requires consistency of State and Federal standards.

VI. Procedural Determinations

Executive Order 12630—Takings

This rule does not have takings implications. This determination is based on the analysis performed for the counterpart Federal regulation.

Executive Order 12866—Regulatory Planning and Review

This rule is exempted from review by the Office of Management and Budget (OMB) under Executive Order 12866.

Executive Order 12988—Civil Justice Reform

The Department of the Interior has conducted the reviews required by section 3 of Executive Order 12988 and has determined that this rule meets the applicable standards of subsections (a) and (b) of that section. However, these standards are not applicable to the actual language of State and Tribal AMLR plans because each program is drafted and promulgated by a specific State or Tribe, not by OSM. Decisions on proposed AMLR plans submitted by a State or Tribe are based solely on a determination of whether the submittal meets the requirements of Title IV of SMCRA (30 U.S.C. 1231-1243) and 30 CFR part 884 of the Federal regulations.

Executive Order 13132—Federalism

This rule does not have Federalism implications. SMCRA delineates the roles of the Federal and State governments with regard to the regulation of AMLR programs. One of the purposes of SMCRA is to “establish a nationwide program to protect society and the environment from the adverse effects of surface coal mining operations.” Section 405(d) of SMCRA requires State AMLR programs to be in compliance with the procedures, guidelines, and requirements established under SMCRA.

Executive Order 13175—Consultation and Coordination With Indian Tribal Governments

In accordance with Executive Order 13175, we have evaluated the potential effects of this rule on Federally-recognized Indian tribes and have determined that the rule does not have substantial direct effects on one or more Indian tribes, on the relationship between the Federal Government and Indian tribes, or on the distribution of power and responsibilities between the Federal Government and Indian tribes. This determination is based on the fact that the Mississippi plan does not provide for reclamation and restoration of land and water resources adversely affected by past coal mining on Indian lands. Therefore, the Mississippi plan has no effect on Federally-recognized Indian tribes.

Executive Order 13211—Regulations That Significantly Affect The Supply, Distribution, or Use of Energy

On May 18, 2001, the President issued Executive Order 13211 which requires agencies to prepare a Statement of Energy Effects for a rule that is (1) considered significant under Executive Order 12866, and (2) likely to have a significant adverse effect on the supply, distribution, or use of energy. Because this rule is exempt from review under Executive Order 12866 and is not expected to have a significant adverse effect on the supply, distribution, or use of energy, a Statement of Energy Effects is not required.

National Environmental Policy Act

This rule does not require an environmental impact statement because agency decisions on proposed State and Tribal AMLR plans are categorically excluded from compliance with the National Environmental Policy Act (42 U.S.C. 4332) by the Manual of the Department of the Interior (516 DM 6, appendix 8, paragraph 8.4B(29)).

Paperwork Reduction Act

This rule does not contain information collection requirements that require approval by OMB under the Paperwork Reduction Act (44 U.S.C. 3507 et seq.).

Regulatory Flexibility Act

The Department of the Interior certifies that this rule will not have a significant economic impact on a substantial number of small entities under the Regulatory Flexibility Act (5 U.S.C. 601 et seq.). The State submittal, which is the subject of this rule, is based upon counterpart Federal regulations for which an economic analysis was prepared and certification made that such regulations would not have a significant economic effect upon a substantial number of small entities. In making the determination as to whether this rule would have a significant economic impact, the Department relied upon the data and assumptions for the counterpart Federal regulations.

Small Business Regulatory Enforcement Fairness Act

This rule is not a major rule under 5 U.S.C. 804(2), the Small Business Regulatory Enforcement Fairness Act. This rule: (a) Does not have an annual effect on the economy of $100 million; (b) Will not cause a major increase in costs or prices for consumers, individual industries, Federal, State, or local government agencies, or geographic regions; and (c) Does not have significant adverse effects on competition, employment, investment, productivity, innovation, or the ability of U.S.-based enterprises to compete with foreign-based enterprises. This determination is based upon the fact that the State submittal, which is the subject of this rule, is based upon counterpart Federal regulations for which an analysis was prepared and a determination made that the Federal regulation was not considered a major rule.

Unfunded Mandates

This rule will not impose an unfunded mandate on State, local, or tribal governments or the private sector of $100 million or more in any given year. This determination is based upon the fact that the State submittal, which is the subject of this rule, is based upon counterpart Federal regulations for which an analysis was prepared and a determination made that the Federal regulation did not impose an unfunded mandate.

List of Subjects in 30 CFR Part 924

Intergovernmental relations, Surface mining, Underground mining.

Dated: August 15, 2006.
Brent Wahlquist,
Acting Director, Office of Surface Mining Reclamation and Enforcement.

For the reasons set out in the preamble, 30 CFR part 924 is amended as set forth below:

PART 924—MISSISSIPPI

1. The authority citation for part 924 continues to read as follows:

Authority: 30 U.S.C. 1201 et seq.

2. Part 924 is amended by adding § 924.20 to read as follows:

§ 924.20 Approval of Mississippi Abandoned Mine Land Reclamation Plan.

The Mississippi AMLR plan statutes, as submitted on April 5, 2006, are approved. Copies of the approved plan statutes are available at:

Office of Surface Mining Reclamation and Enforcement, Birmingham Field Office, 135 Gemini Circle, Suite 215, Homewood, Alabama 35209.

Mississippi Department of Environmental Quality, Office of Geology, 2380 Highway 80 West, Jackson, Mississippi 39289-1307.

[FR Doc. E6-14155 Filed 8-24-06; 8:45 am]

BILLING CODE 4310-05-P